DEPARTMENT OF ENERGY

Agency Information Collection Extension

AGENCY: U.S. Department of Energy.

ACTION: Notice and request for comments.

SUMMARY: The Department of Energy (DOE), pursuant to the Paperwork Reduction Act of 1995, intends to extend for three years an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 3, 2013. If you anticipate difficulty in submitting comments within that period, contact the person listed below as soon as possible.

ADDRESSES: Written comments may be sent to Sarah Ball at 202-287-1563 or by fax at 202-287-1656 or by email at sarah.ball@hq.doe.gov.

FOR FURTHER INFORMATION CONTACT: Requests for additional information or copies of the information collection instrument and instructions should be directed to Sarah Ball by email at sarah.ball@hq.doe.gov.

Information for the Excess Personal Property Furnished to Non-Federal Recipients and the Exchange/Sale Report is collected using GSA's Personal Property Reporting Tool and can be found at the following link: https://gsa.inl.gov/property/.

Information for the Annual Motor Vehicle Fleet Report and the Federal Fleet Report is collected using the Federal Automotive Statistical Tool and can be found at the following link: https://fastweb.inel.gov/.

SUPPLEMENTARY INFORMATION: This information collection request contains: (1) OMB No.: 1910-1000; (2) Information Collection Request Title: Exchange/Sale Report, Excess Personal Property Furnished to Non-Federal Recipients, Annual Motor Vehicle Fleet Report, Federal Fleet Report; (3) Type of Review: Renewal; (4) Purpose: The information being collected is data required in order to submit annual personal property reports as required by 41 CFR part 102 and the Office of Management and Budget. Respondents to this information collection request will be the Department of Energy's Management and Operating Contractor and other major site contractors; (5) Respondents: 44 respondents for each of the four reports equals 176 total respondents; (6) Estimated number of burden hours: The total estimated number of burden hours is 2,552. A breakout of burden hours for each report is listed below:

○ The burden hours for responding to the Exchange/Sale Report are estimated at 5 hours for each of the 44 estimated respondents, for a total of 220 burden hours.

○ The burden hours for responding to the Excess Personal Property Furnished to Non-Federal Recipients are estimated at 5 hours for each of the 44 estimated respondents, for a total of 220 burden hours.

○ The burden hours for responding to the Annual Motor Vehicle Fleet Report are estimated at 24 hours for each of the 44 estimated respondents, for a total of 1056 burden hours.

○ The burden hours for responding to the Federal Fleet Report are estimated at 24 hours for each of the 44 estimated respondents, for a total of 1056 burden hours.

Authority: (A) 41 CFR 102-39.85, (B) 41 CFR 102-36.295 and 102-36.300, (C) OMB Circular A-11 section 25.5, (D) 41 CFR 102-34.335.

Issued in Washington, DC, on March 26, 2013.
Paul Bosco,
Director, Office of Acquisition and Project Management.

[FR Doc. 2013-07629 Filed 4-1-13; 8:45 am]

BILLING CODE 6450-01-P